DEPARTMENT OF LABOR

Employment and Training Administration

[TA-W-58,037]

Cabot Corporation, Supermetals Division, Boyertown, PA; Notice of Negative Determination on Remand

The United States Court of International Trade (USCIT) granted the Secretary of Labor's motion for a voluntary remand for further investigation in Former Employees of Cabot Corporation, Supermetals Division, Boyertown, Pennsylvania v. Elaine Chao, U.S. Secretary of Labor, No. 05-00674.

The Department's initial denial for the workers of Cabot Corporation, Supermetals Division, Boyertown, Pennsylvania (hereafter “Cabot”), issued on November 14, 2005 and published in the Federal Register on December 6, 2005 (70 FR 72655), was based on the finding that “contributed importantly” group eligibility requirement of Section 222 of the Trade Act of 1974, as amended, was not met, nor was there a shift in production from that firm to a foreign country. The “contributed importantly” test is generally demonstrated through a survey of the workers' firm's customers. The survey revealed no imports of tantalum powder during the relevant period. The subject firm did not import tantalum powder nor did it shift production to a foreign country during the relevant period.

On December 8, 2005, the petitioner requested administrative reconsideration, asserting that the decline in tantalum powder production at the subject firm was a result of the subject company purchasing the “same items from European companies”, subject firm's “take or pay” contracts, and foreign competition.

On January 5, 2006, the Department issued a Dismissal of Application for Reconsideration, published in the Federal Register on January 17, 2006 (71 FR 2566), stating that the application did not contain new information supporting a conclusion that the determination was erroneous, and also did not provide a justification for reconsideration of the determination that was based on either mistaken facts or a misinterpretation of facts or of the law.

After the petitioner sought review by the USCIT, the Department requested a voluntary remand since the petitioner requested that the Department conduct a further investigation of whether there was an increase of imports of tantalum powder during the relevant time period. The review of the initial investigation revealed that the confidential data request received from the subject firm during the initial investigation refers to “tantalum” as a product manufactured by the subject firm during the relevant time period. The Department contacted the subject company official to verify the exact products manufactured by the subject firm during the relevant time period. The company official reported that “tantalum powder and tantalum wire” were products manufactured by the subject firm during the relevant time period. Consequently, the Department conducted an investigation to determine if the workers were impacted by imports of “tantalum powder and tantalum wire” or a shift in production abroad occurred during the relevant period. The investigation revealed that the subject firm did not import “tantalum powder and tantalum wire”, nor did it shift production of “tantalum powder and tantalum wire” to a foreign country. The investigation further revealed that all declines in sales and production of tantalum powder and tantalum wire at the subject firm are attributed to a loss in foreign market sales.

The subject firm provided two major declining customers, one a foreign company and another which appeared to be a domestic company. The Department conducted a customer survey with the major declining customer. The investigation revealed that the domestic customer purchases of tantalum powder and tantalum wire from the subject firm was for the purpose of exporting these products to its foreign manufacturing facilities. This customer does not import tantalum powder and tantalum wire into the United States and it uses all of tantalum products in production abroad.

Conclusion

After reconsideration on remand, I affirm the original notice of negative determination of eligibility to apply for adjustment assistance for workers and former workers of Cabot Corporation, Supermetals Division, Boyertown, Pennsylvania.

Signed at Washington, DC, this 21st day of April, 2006.
Elliott S. Kushner,
Certifying Officer, Division of Trade Adjustment Assistance.

[FR Doc. E6-6815 Filed 5-4-06; 8:45 am]

BILLING CODE 4510-30-P